DEPARTMENT OF AGRICULTURE

Forest Service

Wrangell-Petersburg Resource Advisory Committee

AGENCY: Forest Service, USDA.

ACTION: Notice of meeting.

SUMMARY: The Wrangell-Petersburg Resource Advisory Committee (RAC) will meet from 5 p.m. until 7 p.m. on Tuesday, March 9, 2004, in Petersubrg, Alaska. The purpose of this meeting is to discuss and potentially recommend for funding the costs of travel and registration for up to two committee members to attend the National Resource Advisory Committee meeting in Sparks, Nevada, March 25, 2004.

DATES: The meeting will be held commencing at 5 p.m. on Tuesday, March 9, 2004. It is anticipated that the meeting will adjourn by 7 p.m.

ADDRESSES: The meeting will be held at the Petersburg Ranger District office conference room, Federal Building, 12 North Nordic Drive, Petersburg, Alaska. Committee members from outside Petersburg will participate in the meeting via teleconference.

FOR FURTHER INFORMATION CONTACT: Brian Riggers, Acting Wrangell District Ranger, P.O. Box 51, Wrangell, AK 99929, phone (907) 874-2323, e-mail briggers@fs.fed.us, or Patty Grantham, Petersburg District Ranger, P.O. Box 1328, Petersburg, AK 99833, phone (907) 772-3871, e-mail pagrantham@fs.fed.us. Contact either of these individuals for teleconference information. For further information on RAC history, operations, and the application process, a Web site is available at http://www.fs.fed.us/r10/ro/payments.

SUPPLEMENTARY INFORMATION: This meeting will focus on the discussion and potential recommendation for funding of the costs of travel and registration for up to two committee members to attend the National Resource Advisory Committee meeting in Sparks, Nevada, March 25, 2004. The meeting is open to the public. Teleconference capability is available (committee members from outside of Petersburg will participate via teleconference).

Dated: February 19, 2004.
Forrest Cole,
Forest Supervisor.

[FR Doc. 04-4243 Filed 2-25-04; 8:45 am]

BILLING CODE 3410-11-M